DEPARTMENT OF EDUCATION

[Docket ID ED-2024-IES-0116]

Request for Information for Recommendations on Improving Data User Experiences Through a National Center for Education Statistics' 2025 Data Users Conference

AGENCY: Institute of Education Sciences, Department of Education.

ACTION: Request for information.

SUMMARY: The National Center for Education Statistics (NCES), the statistical center within the U.S. Department of Education's Institute of Education Sciences (IES), is soliciting public input on the framework for an inaugural Data Users Conference. The event will bring together a diverse set of NCES data users, including researchers, practitioners, parents/guardians, students, academic and commercial leaders in their fields, and policymakers. Their input will be used to refine NCES's approach to meeting the needs of its data users.

DATES: We must receive your comments by October 31, 2024.

ADDRESSES: Recommendations must be submitted via the Federal eRulemaking Portal at regulations.gov. However, if you require an accommodation or cannot otherwise submit your recommendations via regulations.gov, please contact the program contact person listed under FOR FURTHER INFORMATION CONTACT. The Department will not accept recommendations by email or by fax. To ensure that the Department does not receive duplicate copies, please submit your recommendations only once. Additionally, please include the Docket ID at the top of your comments.

Federal eRulemaking Portal: Go to www.regulations.gov to submit your recommendations electronically. Information on using Regulations.gov, including instructions for accessing agency documents, submitting comments, and viewing the docket, is available on the site under the “FAQ” tab.

Privacy Note: The Department's policy for comments received from members of the public is to make these submissions available for public viewing in their entirety on the Federal eRulemaking Portal at www.regulations.gov. Therefore, commenters should be careful to include in their recommendations only information that they wish to make publicly available. We encourage, but do not require, that each respondent include their name, title, institution or affiliation, and the name, title, mailing and email addresses, and telephone number of a contact person for the institution or affiliation, if any.

FOR FURTHER INFORMATION CONTACT: Eunice Greer, U.S. Department of Education, 400 Maryland Avenue SW, Room PCP-4101, Washington, DC 20202. Telephone: (202) 320-7356. Email: Eunice.Greer@ed.gov.

As stated above, recommendations must be submitted via the Federal eRulemaking Portal at regulations.gov. However, if you require an accommodation or cannot otherwise submit your recommendations via regulations.gov, please contact the program contact person listed above.

If you are deaf, hard of hearing, or have a speech disability and wish to access telecommunications relay services, please dial 7-1-1.

SUPPLEMENTARY INFORMATION:

Background: NCES has a legal mandate to collect, collate, analyze, and report complete statistics on the condition of American education; conduct and publish reports; and review and report on education activities internationally. 20 U.S.C. 9541 et seq. Additionally, the Center is authorized to establish one or more national cooperative education statistics systems to produce and maintain, with the cooperation of the States, comparable and uniform information and data on early childhood education, elementary and secondary education, postsecondary education, adult education, and libraries that are useful for policymaking at the Federal, State, and local levels. 20 U.S.C. 9547. Additional information about NCES is available here: https://nces.ed.gov/.

NCES is convening data users in response to recommendations from the National Academies of Science, Engineering, and Medicine (NASEM) detailed in their 2022 report, A Vision and Roadmap for Education Statistics. This report was prepared at the request of NCES. NASEM recommends that NCES:

—Adapt to the changing world of education by increasing diversity and awareness of equity issues;

—Expand data-acquisition strategies to gain new insights;

—Prioritize topics, data content, and statistical information to increase relevance; and

—Expand engagement and dissemination for greater mission impact.

The Data Users Conference will draw heavily on NCES data and invite presentations from external experts working with broader sources of data. Facilitated discussions will explore opportunities for expanding NCES data collection, application, and reporting. The Conference's centerpiece will be a three-day series of seminars that will focus on three themes:

(1) Identifying and closing learning and achievement gaps;

(2) Identifying and explaining ways that Pre-K, K-12, and postsecondary landscapes are changing; and

(3) Expanding awareness and use of socio-spatial data, data for rural areas, and blended data to improve understanding of underrepresented groups.

External experts will join NCES researchers in a series of presentations to address each theme in new and powerful ways. Within each theme, participants will work together to articulate expanded strategies for gathering, analyzing, visualizing, and reporting data. In addition to providing a venue for data users to share novel uses of NCES data, NCES will also use the conference to share product and process updates. These may include updates to NCES data tools, reporting programs, and training opportunities.

Please note that this RFI is only a request for recommendations and not a request for proposals (RFP), or a promise to issue an RFP, or a notice inviting applications (NIA). This RFI does not commit the Department to take any future administrative, contractual, regulatory, or other action. A Request for Proposals is forthcoming. The Department will not pay for any information or administrative costs that you may incur in responding to this RFI. Any supporting documents and information submitted in response to this RFI will not be returned.

We will review each recommendation, and the information submitted in response to this RFI will be publicly available on the Federal eRulemaking Portal at www.regulations.gov. Please note that IES will not directly respond to comments.

Solicitation of Recommendations: We encourage the public, particularly those who are aware of key research questions and policy activity in one or more of the three theme areas, to address the following questions in their recommendations:

(1) What are existing or emerging issues for data users that you consider critical for each of the three conference themes? Please provide citations and links to any noteworthy research publications and products that support these existing or emerging issues.

(2) How can conference organizers best identify and convene a broad and diverse array of attendees? Recommended methods should promote inclusive approaches. Our goal is to convene organizations and/or individuals who are engaged in work related to one or more of the conference themes, including early career researchers, data users from smaller institutions, and non-traditional data users.

(3) What NCES-affiliated products and processes are of greatest interest to data users? Are there any specific updates or modifications that would be helpful to data users?

Accessible Format: By request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or another accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Matthew Soldner,
Acting Director, Institute of Education Sciences.

[FR Doc. 2024-22490 Filed 9-30-24; 8:45 am]

BILLING CODE 4000-01-P